DEPARTMENT OF THE INTERIOR

Fish and Wildlife Service

Notice of Availability of the Draft Environmental Impact Statement and Comprehensive Conservation Plan for the Nisqually National Wildlife Refuge for Review and Comment, and Notice of Public Meetings

AGENCY: Fish and Wildlife Service, Interior.

ACTION: Notice of availability and notice of public meetings.

SUMMARY: The U.S. Fish and Wildlife Service (Service) announces that a Draft Environmental Impact Statement and Comprehensive Conservation Plan (Draft EIS/CCP) for Nisqually National Wildlife Refuge (Refuge) is available for review and comment. This Draft EIS/CCP, prepared pursuant to the National Wildlife Refuge System Administration Act, as amended and the National Environmental Policy Act of 1969, describes the Service's proposal for management of the Refuge for the next 15 years. Proposed changes to the Refuge being considered include the restoration of historic estuarine habitat and dike removal; a proposed expansion of the approved Refuge boundary; changes to the trail system; opening the Refuge to waterfowl hunting; and establishing a speed limit of 5 miles per hour in Refuge waters for all water craft. Also available for review with the Draft EIS/CCP, are draft compatibility determinations for waterfowl hunting; recreational fishing; boating; environmental education; wildlife observation, photography and interpretation; research; and haying.

DATES: Written comments must be received at the address below by February 18, 2003. Public meetings will be held on:

1. Wednesday, January 15, 2003, 3 p.m. to 8:30 p.m., Olympia, WA.

2. Thursday, January 16, 2003, 3 p.m. to 8:30 p.m., Tacoma, WA.

ADDRESSES: Comments on the Draft EIS/CCP should be addressed to: Jean Takekawa, Refuge Manager, Nisqually National Wildlife Refuge Complex, 100 Brown Farm Road, Olympia, Washington 98516. Comments may also be submitted at the public meetings or via electronic mail to FW1PlanningComments@fws.gov. Please type “Nisqually NWR” in the subject line. The public meeting locations are:

1. Nisqually National Wildlife Refuge, 100 Brown Farm Road, Olympia, WA.

2. Tacoma Public Library, 1102 Tacoma Avenue S., Tacoma, WA.

FOR FURTHER INFORMATION CONTACT: Refuge Manager, Nisqually National Wildlife Refuge Complex, 100 Brown Farm Road, Olympia, Washington 98516, (360) 753-9467, or Michael Marxen, U.S. Fish and Wildlife Service, Pacific Northwest Planning Team, 16507 Roy Rogers Road, Sherwood, Oregon 97140, (503) 590-6596.

SUPPLEMENTARY INFORMATION: Copies of the Draft EIS/CCP may be obtained by writing to U.S. Fish and Wildlife Service, Attn: Michael Marxen, Pacific Northwest Planning Team, 16507 Roy Rogers Road, Sherwood, Oregon, 97140. Copies of the Draft EIS/CCP may be viewed at this address or at the Nisqually National Wildlife Refuge Complex, 100 Brown Farm Road, Olympia, Washington 98516. The Draft EIS/CCP will also be available for viewing and downloading online at http://pacific.fws.gov/planning. Printed documents will also be available for review at the following libraries: Timberland Community Library in Olympia; Tacoma Public Library; University of Washington—Suzallo Library; William J. Reed Library in Shelton, WA; and the Evergreen State College Library.

Background

Nisqually National Wildlife Refuge is located in western Washington at the southern end of Puget Sound in Thurston and Pierce counties. The Refuge is one of nearly 540 refuges in the National Wildlife Refuge System managed by the U.S. Fish and Wildlife Service. Wildlife conservation is the priority of National Wildlife Refuge System lands. Nisqually Refuge contributes substantially to the conservation of fish, wildlife, and native habitats of the Puget Sound region. The Refuge protects one of the few relatively undeveloped large estuaries remaining in Puget Sound. It provides crucial habitat for migratory birds of the Pacific Flyway, including many waterfowl, shorebirds, waterbirds, and seabirds. The Refuge also contains regionally important migration and rearing habitat for salmon, particularly the threatened fall chinook salmon. Each year, more than 100,000 visitors come to view wildlife and enjoy and learn about Refuge habitats and the wildlife they support.

Proposed Action

The Proposed Action is to adopt and implement a Comprehensive Conservation Plan (CCP) for the Nisqually Refuge that best achieves the Refuge's purpose, vision, and goals; contributes to the National Wildlife Refuge System mission; addresses the significant issues and relevant mandates; and is consistent with principles of sound fish and wildlife management. The Service analyzed four alternatives for future management of the Refuge; of these, it is proposed that Alternative D would best achieve all of these elements, and it has, therefore, been identified as the Preferred Alternative.

Purpose and Need for Action

A CCP is needed to guide the long term management of the highest priority natural resource needs at Nisqually Refuge. The Refuge is currently managed under an outdated 1978 Conceptual Management Plan. The purpose of the CCP is to provide management guidance for the Refuge including guidance for land protection, habitat restoration, fish and wildlife conservation, and visitor services to more effectively achieve Refuge goals and purposes. Implementing the CCP will provide the Refuge with an opportunity to enhance its critical role in the conservation and management of the fish and wildlife resources of Nisqually River delta and lower watershed and continue developing high quality environmental education and wildlife interpretation for Refuge visitors.

Eighty percent of estuarine habitat has been lost in Puget Sound in the last 150 years, contributing to the decline of many fish and wildlife species that depend on estuaries, including several salmon species. The Refuge's diked freshwater wetlands were historically estuarine and habitat quality has declined. The south Puget Sound region is undergoing dramatic changes in population and landscape, as it becomes more urban. As Refuge visitor use has increased, so have conflicts among visitors and concerns over meeting the needs of fish and wildlife. In response to these changes and management issues the CCP needs to consider increased land protection, restoration of the historic estuarine system, improved wildlife protection, enhanced environmental education and compatibility of wildlife-dependent recreation activities.

Alternatives

This Draft EIS/CCP identifies and evaluates four alternatives for managing Nisqually National Wildlife Refuge for the next 15 years. Each alternative describes a combination of habitat and public use management prescriptions designed to achieve the Refuge purposes, goals, and vision. The four alternatives are briefly described below, followed by additional features common to some or all of the alternatives.

Alternative A, the “No Action” alternative assumes no change from past management programs and is considered the baseline from which to compare the other alternatives. As funding becomes available, the Refuge would continue to seek acquisition of interests in the remaining 1,011 acres within the current approved Refuge boundary (3,936 acres) as lands become available from willing sellers, but no expansion beyond the current approved Refuge boundary would occur. There would be no major changes in habitat management or public use programs. The environmental education program would continue to serve approximately 5,000 students per year. A new education facility would be required to ensure a safe, high quality experience under all alternatives. No new internal dikes or impoundments would be created, but external dikes (28,000 linear feet) would need extensive repairs and continued maintenance.

Alternative B would provide for moderate expansion of the approved Refuge boundary (a 2,407-acre addition for a total of 6,343 acres). It places new management emphasis on the restoration of estuarine habitat and improved freshwater wetland management. Approximately 318 acres (30%) of the diked interior would be restored to muted estuarine habitat by creating bridged breaches and retaining dikes. Approximately 140 acres (15%) of diked habitat would be restored to fully functional estuarine habitat in the northern half of the Shannon Slough system along McAllister Creek, requiring only limited dike removal. All remaining exterior dikes would require extensive repairs to prevent seepage and failure. Management of 542 acres of freshwater and grassland habitats would be improved in the remaining diked area by converting some grasslands to seasonal freshwater wetlands and ponds, and constructing five internal management units with new interior dikes, creating a higher proportion of freshwater habitat. The current environmental education program would be improved and expanded to the largest degree of all action alternatives, serving 20,000 students per year. There would be fewer changes to the public wildlife observation trail system than in other action alternatives, and Refuge lands would remain closed to waterfowl hunting, with the closure posted and enforced to eliminate unauthorized hunting on the Refuge. Hunting would still occur on Washington Department of Fish and Wildlife (WDFW) lands; therefore, a portion of the wildlife observation trail would continue to be closed during hunting season to avoid conflicts with hunters.

Alternative C would provide for the same expansion of the Refuge boundary as in Alternative B (a 2,407-acre addition). However, it places a stronger emphasis on the restoration of estuarine habitat, while improving freshwater wetland and riparian habitats. This alternative would restore approximately 515 acres (50%) of the diked interior to estuarine habitat. This alternative would retain the Shannon Slough system along McAllister Creek as diked freshwater habitat. Exterior dikes would be removed in the northern half of the 1,000-acre diked area, and all remaining exterior dikes would require extensive repairs to prevent seepage and failure. Riparian habitat would be enhanced along the Nisqually River by restoring forested, surge plain habitat on 38 acres north of the Twin Barns. Management of the remaining 447 acres of freshwater and grassland habitats would be improved, with a higher proportion of freshwater habitat created by converting some grasslands to seasonal freshwater wetlands and ponds as well as constructing five internal management units with new interior dikes. The environmental education program would be improved and expanded to serve 15,000 students, fewer than in Alternative B, to provide sufficient staff time to operate a waterfowl hunt program. Moderate changes would occur in the trail system, reducing the 5.5-mile loop to 3.75 miles; a new trail would be developed on Tribal and Refuge properties east of the Nisqually River. Approximately 713 acres of Refuge land would be opened to waterfowl hunting limited to 3 days per week and consolidated in a block with WDFW lands (totaling 1,170 acres). This would require an agreement with WDFW to limit hunting on their lands in McAllister Creek. New fishing opportunities would be provided including bank fishing on the east side of the Nisqually River, improved bank fishing at Trotter's Woods south of I-5, and disabled access fishing at Luhr Beach, if acquired.

Alternative D would provide a larger approved Refuge boundary expansion (a 3,479-acre addition for a total of 7,415 acres). It also increases estuarine restoration while improving freshwater wetland and riparian habitats on the Refuge. Under Alternative D, 699 acres (70%) of the diked area would be converted to estuarine habitat, resulting in removal of a large part of the exterior dike. Management of the remaining 263-acre area within the dike would be greatly improved as freshwater wetland and riparian habitats and five internal management units would be constructed with new interior dikes. As in Alternative C, 38 acres of forested, surge plain habitat would be restored to increase the acreage of this important habitat along the Nisqually River. The environmental education program would be improved and expanded (15,000 students per year), although not to the extent of Alternative B, to provide sufficient staff time to operate a waterfowl hunt program. The greatest changes would occur in the wildlife observation trail system of any alternative, reducing the 5.5-mile loop to a 3.5-mile round trip trail no longer in a loop configuration; a new trail would be developed on Tribal and Refuge properties east of the river. A smaller portion of Refuge lands (191 acres) would be opened to hunting 7 days per week, with no changes to hunting on WDFW lands; however, a portion of the main trail would be seasonally closed. Bank fishing on McAllister Creek would no longer be offered due to dike removal, but new fishing opportunities could be provided in the future, if appropriate lands were acquired along McAllister Creek south of I-5, as well as those described under Alternative C.

Actions Common to All Action Alternatives

In addition, the following components are proposed to be implemented under alternatives B, C, and D. Walk-in waterfowl hunting opportunities would be considered if sufficient lands were acquired south of I-5, which would provide adequate wildlife sanctuary and minimal conflict with other priority uses. A speed limit of 5 mph for all water craft would be established in all Refuge waters to provide wildlife and habitat protection and reduce conflicts with other visitors. Service policies prohibiting consumptive uses in the Research Natural Area (RNA) in the northeast part of the Refuge would be enforced, including fishing, shell fishing, and waterfowl hunting. The RNA would be closed to all boating from October 1 to March 31 to provide a seasonal sanctuary for migratory birds and other wildlife.

Public comments are requested, considered, and incorporated throughout the planning process in numerous ways. Public outreach has included open houses, public meetings, technical workgroups, planning update mailings, and Federal Register notices. Two previous notices were published in the Federal Register concerning this Draft EIS/CCP (October 9, 1997 and February 9, 2000). After the review and comment period ends for this Draft EIS/CCP, comments will be analyzed and considered by the Service. A Final EIS will then be prepared and published which will include substantive comments received and provide the Service's responses. Changes made to the selected alternative will also be identified in the Final EIS. A Record of Decision and final CCP will then be published.

All comments received from individuals on environmental impact statements become part of the official public record. Requests for such comments will be handled in accordance with the Freedom of Information Act, the Council on Environmental Quality's NEPA regulations (40 CFR 1506.6(f)) and other Service and Departmental policies and procedures.

Dated: November 13, 2002.
Rowan W. Gould,
Acting Regional Director, Region 1, Portland, Oregon.

[FR Doc. 02-32046 Filed 12-19-02; 8:45 am]

BILLING CODE 4310-55-P